FEDERAL DEPOSIT INSURANCE CORPORATION

12 CFR Parts 308 and 363

RIN 3064-AD21

Annual Independent Audits and Reporting Requirements

AGENCY: Federal Deposit Insurance Corporation (FDIC).

ACTION: Final rule; correction.

SUMMARY: On July 20, 2009, the FDIC published in the Federal Register a final rule amending part 363 of its regulations concerning annual independent audits and reporting requirements for certain insured depository institutions, which implements section 36 of the Federal Deposit Insurance Act (FDI Act), largely as proposed, but with certain modifications made in response to the comments received and making a technical amendment to its rules and procedures (part 308, subpart U) for the removal, suspension, or debarment of accountants and accounting firms. The publication of the final rule corrected certain errors in the original publication of the final rule, which had been published in the Federal Register on July 7, 2009. It has come to the attention of the FDIC that the July 20 re-publication included one additional error. This correction will rectify that oversight.

DATES: Effective Date: This correction is effective August 6, 2009.

FOR FURTHER INFORMATION CONTACT: Harrison E. Greene, Jr., Senior Policy Analyst (Bank Accounting), Division of Supervision and Consumer Protection, at hgreene@fdic.gov or (202) 898-8905; or Michelle Borzillo, Senior Counsel, Corporate and Legal Operations Section, Legal Division, at mborzillo@fdic.gov or (202) 898-7400.

SUPPLEMENTARY INFORMATION: On July 20, 2009, the FDIC published in the Federal Register a final rule amending part 363 of its regulations concerning annual independent audits and reporting requirements for certain insured depository institutions, which implements section 36 of the Federal Deposit Insurance Act (FDI Act), largely as proposed, but with certain modifications made in response to the comments received and making a technical amendment to its rules and procedures (part 308, subpart U) for the removal, suspension, or debarment of accountants and accounting firms. The July 20, 2009, publication of the final rule corrected certain errors in the original publication of the final rule, which had been published in the Federal Register on July 7, 2009. It has come to the attention of the FDIC that the July 20 re-publication failed to include one further correction. This publication will rectify that oversight.

The correction included in this Federal Register document corrects an error in the prior publication which caused an apparent inconsistency in the effective date.

In the the final rule, FR Doc. No. 2009-17009 published on July 20, 2009 (74 FR 35726), make the following correction:

On page 35744, the first sentence of the V. Effective and Compliance Dates section is corrected to read:

Except as noted below, the final rule is effective August 6, 2009.

Federal Deposit Insurance Corporation.
Valerie J. Best,
Assistant Executive Secretary.

[FR Doc. E9-19259 Filed 8-11-09; 8:45 am]

BILLING CODE 6714-01-P